ENVIRONMENTAL PROTECTION AGENCY

40 CFR Parts 51 and 52

[FRL-7997-4]

RIN 2060-AK74

Public Hearing and Extension of Public Comment Period for Proposed Rule To Implement the Fine Particle National Ambient Air Quality Standards

AGENCY: Environmental Protection Agency (EPA).

ACTION: Announcement of public hearing and extension of public comment period.

SUMMARY: The EPA is announcing that a public hearing for the proposed rule to implement the fine particle national ambient air quality standards (NAAQS) will be held on November 30, 2005 in Washington, DC. The proposed rule was published in the Federal Register on November 1, 2005 (70 FR 65984) and is also available at http://www.epa.gov/pmdesignations. The hearing will be at the Capitol Hilton Hotel in Washington, DC and will begin at 9 a.m. The EPA is also extending the public comment period for this proposed rule to January 31, 2006.

DATES: The public hearing will be held on November 30, 2005. The public comment period for this proposed rule is extended to January 31, 2006. Please refer to SUPPLEMENTARY INFORMATION for additional information on the hearing.

ADDRESSES: The public hearing will be held at the Capitol Hilton Hotel, located at 1001 16th Street, NW., Washington, DC 20036, phone 202-393-1000. (The hotel is within walking distance of three Metro stations: The Farragut North, Farragut West, and McPherson Square stations.) Written comments on the proposed rule may also be submitted to EPA electronically, by mail, by facsimile, or through hand delivery/courier. Please refer to the proposal for the addresses and detailed instructions. Documents relevant to this action are available for public inspection at the EPA Docket Center, located at 1301 Constitution Avenue, NW., Room B102, Washington, DC between 8:30 a.m. and 4:30 p.m., Monday through Friday, excluding legal holidays. A reasonable fee may be charged for copying. Documents are also available through EPA's electronic Docket system at http://www.epa.gov/edocket. The EPA Web site for the rulemaking is http:// www.epa.gov/pmdesignations.

FOR FURTHER INFORMATION CONTACT: If you would like to speak at the public hearing or have questions concerning the public hearing, please contact Joann Allman of EPA (see contact information under SUPPLEMENTARY INFORMATION). Questions concerning PM 2.5 implementation issues should be addressed to Richard Damberg, U.S. Environmental Protection Agency, Office of Air Quality Planning and Standards, Mail Code C504-02, Research Triangle Park, NC 27711, phone number (919) 541-5592 or by e-mail at: damberg.rich@epa.gov. Questions concerning the new source review program revisions to address the PM 2.5 standards should be addressed to Raj Rao, U.S. Environmental Protection Agency, Office of Air Quality Planning and Standards, Mail Code C339-03, Research Triangle Park, NC 27711, phone number (919) 541-5344 or by e-mail at: rao.raj@epa.gov.

SUPPLEMENTARY INFORMATION: Public Hearing. The public hearing will provide interested parties the opportunity to present data, views, or arguments concerning the proposed rule. The EPA may ask clarifying questions during the oral presentations, but will not respond to the presentations at that time. Written statements and supporting information submitted during the comment period will be considered with the same weight as any oral comments and supporting information presented at the public hearing. Written comments must be postmarked by January 31, 2006.

If you would like to present oral testimony at the hearing, please notify Joann Allman of the U.S. EPA, Office of Air Quality Planning and Standards, Air Quality Strategies and Standards Division, C539-02, Research Triangle Park, NC 27711, telephone (919) 541-1815, e-mail allman.joann@epa.gov, by 12 p.m. Eastern time on November 28, 2005. She will provide you with a specific time to provide your comments. Oral testimony will be limited to 5 minutes for each commenter. The EPA encourages commenters to provide EPA with a copy of their oral testimony electronically (via e-mail, computer disk, or CD) or in hard copy form.

The public hearing will begin at 9 a.m. and continue until 5 p.m., if necessary, depending on the number of speakers. The EPA may end the hearing early (no earlier than 2 p.m.) if all registered speakers have had an opportunity to speak. Persons wishing to present oral testimony that have not made arrangements in advance can register by 2 p.m. on the day of the hearing. We will provide equipment for commenters to show overhead slides or make computerized slide presentations if we receive special requests in advance. Commenters should notify Joann Allman if they will need specific equipment. The hearing schedule, including lists of speakers, will be posted on EPA's Web site: http://www.epa.gov/pmdesignations. Verbatim transcripts of the hearings and written statements will be included in the rulemaking docket.

Extension of public comment period. The proposed rule was signed by the Administrator on September 8, 2005 and published in the Federal Register on November 1, 2005. Since the 60-day public comment period would have concluded on December 31, 2005, EPA has decided to extend the comment period until January 31, 2006 in order to avoid the December holiday period and allow interested parties to have additional time to prepare their comments.

How Can I Get Copies of This Document and Other Related Information?

The EPA has established the official public docket for the Rule to Implement the Fine Particle National Ambient Air Quality Standards under Docket ID No. OAR-2003-0062. Also, the proposed rule was published in the Federal Register on November 1, 2005 and is available at http://www.epa.gov/pmdesignations.

Dated: November 9, 2005.
Mary E. Henigin,
Acting Director, Office of Air Quality Planning and Standards.

[FR Doc. 05-22694 Filed 11-14-05; 8:45 am]

BILLING CODE 6560-50-P